FEDERAL MINE SAFETY AND HEALTH REVIEW COMMISSION

Sunshine Act Notice; Cancellation of Meeting Notice

March 16, 2020.

The following Commission oral argument has been cancelled. No earlier announcement of the cancellation was possible.

TIME AND DATE: 10:00 a.m., Wednesday, March 18, 2020.

PLACE: The Richard V. Backley Hearing Room, Room 511N, 1331 Pennsylvania Avenue NW, Washington, DC 20004 (enter from F Street entrance).

STATUS: Open.

MATTERS TO BE CONSIDERED: The Commission will hear oral argument in the matter Secretary of Labor v. Northshore Mining Co., Docket Nos. LAKE 2017-224, et al. (Issues include whether the Judge erred in concluding that a violation of the walkway standard resulted from an unwarrantable failure and the operator's reckless disregard.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO MEETING: 1-(866) 236-7472, Passcode: 678-100.

Authority: 5 U.S.C. 552b.

Dated: March 16, 2020.
Sarah L. Stewart,
Deputy General Counsel.

[FR Doc. 2020-05760 Filed 3-16-20; 4:15 pm]

BILLING CODE 6735-01-P